DEPARTMENT OF LABOR

Office of the Secretary

Agency Information Collection Activities; Submission for OMB Review; Comment Request; YouthBuild Reporting System

ACTION: Notice.

SUMMARY: The Department of Labor (DOL) hereby announces the submission of the Employment and Training Administration (ETA) sponsored information collection request (ICR) revision titled, “YouthBuild Reporting System,” to the Office of Management and Budget (OMB) for review and approval for use in accordance with the Paperwork Reduction Act of 1995 (Pub. L. 104-13, 44 U.S.C. chapter 35).

DATES: Submit comments on or before May 18, 2012.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, Washington, DC 20503, Telephone: 202-395-6929/Fax: 202-395-6881 (these are not toll-free numbers), email: OIRA_submission@omb.eop.gov.

FOR FURTHER INFORMATION CONTACT: Michel Smyth by telephone at 202-693-4129 (this is not a toll-free number) or by email at DOL_PRA_PUBLIC@dol.gov.

SUPPLEMENTARY INFORMATION: YouthBuild grantees collect and report selected standardized information pertaining to customers in YouthBuild programs for the purposes of general program oversight, evaluation, and performance assessment. The ETA provides all grantees with a YouthBuild management information system to use for collecting participant data and for preparing and submitting the required quarterly reports. This is a request to extend the reporting and recordkeeping requirements of the YouthBuild program and to add an additional section to an existing form to enable the collection of information on the number of affordable housing units built or renovated by YouthBuild participants.

The YouthBuild Reporting System is an information collection subject to the PRA. A Federal agency generally cannot conduct or sponsor a collection of information, and the public is generally not required to respond to an information collection, unless it is currently approved by the OMB under the PRA and displays a currently valid OMB Control Number. In addition, notwithstanding any other provisions of law, no person shall generally be subject to penalty for failing to comply with a collection of information if the collection of information does not display a currently valid OMB control number. See 5 CFR 1320.5(a) and 1320.6. The DOL obtains OMB approval for this information collection under OMB Control Number 1205-0464. The current OMB approval is scheduled to expire on April 30, 2014. New information collection requirements would take effect only upon OMB approval of the ICR.

For additional information, see the related notice published in the Federal Register on September 8, 2011 (76 FR 55707).

Interested parties are encouraged to send comments to the OMB, Office of Information and Regulatory Affairs at the address shown in the ADDRESSES section within 30 days of publication of this notice in the Federal Register. In order to ensure appropriate consideration, comments should reference OMB Control Number 1205-0464. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: YouthBuild Reporting System.

OMB Control Number: 1205-0464.

Affected Public: Individuals or Households and Private Sector—Not-for-profit institutions.

Total Estimated Number of Respondents: 6,645.

Total Estimated Number of Responses: 14,460.

Total Estimated Annual Burden Hours: 39,179.

Total Estimated Annual Costs Burden: $0.

Dated: April 11, 2012.
Michel Smyth,
Departmental Clearance Officer.

[FR Doc. 2012-9257 Filed 4-17-12; 8:45 am]

BILLING CODE 4510-FT-P